FEDERAL COMMUNICATIONS COMMISSION

[CC Docket No. 98-67; DA 01-1706]

Common Carrier Bureau Seeks Comment on Requests for Waiver of Video Relay Service Requirements

AGENCY: Federal Communications Commission.

ACTION: Notice.

SUMMARY: On July 16, 2001 the Commission released a document seeking comment on waiver requests filed by Hamilton Telephone Company (Hamilton) and Sprint Communications (Sprint). Both Hamilton and Sprint requested temporary waiver of certain mandatory minimum requirements for providing Video Relay Services (VRS).

DATES: Comments due September 14, 2001. Reply comments due October 1, 2001.

ADDRESSES: Federal Communications Commission, The Portals II, 445 12th Street, SW., Suite 6A207, Washington, DC 20554.

FOR FURTHER INFORMATION CONTACT: Pam Slipakoff of the Common Carrier Bureau, Network Services Division: by phone at (202) 418-7705; by fax at (202) 418-2345; by TTY at (202) 418-0484 or; by email at pslipako@fcc.gov.

SUPPLEMENTARY INFORMATION: In the March 6, 2000 Improved TRS Order, 65 FR 38432 (June 21, 2000), the Federal Communications Commission (Commission) amended the TRS rules to expand the kinds of relay services available to consumers and to improve the quality of TRS. The order changed many of the definitions and standards for traditional TRS and added speech-to-speech (STS) and Spanish relay requirements. It also permitted recovery of the costs of both intrastate and interstate VRS through the interstate TRS fund but did not require the provision of VRS. In addition, the Improved TRS Order required that all relay service, whether mandatory or voluntary, funded by intrastate and interstate TRS funds must comply with the minimum service quality standards; it also modified the rules to accommodate STS and VRS services.

Hamilton's filing includes a request for clarification of the scope of the VRS rules and for a two year waiver of certain provisions contained in the Improved TRS Order. Specifically, Hamilton seeks clarification that VRS need not include STS or Spanish relay service under our current rules. This request will be addressed in a separate Commission level proceeding.

Hamilton's request for a temporary waiver seeks exemption of portions of section 64.604 of the Commission's rules as they apply to VRS providers. Specifically, Hamilton seeks temporary waiver of the following requirements: (1) The types of calls that must be handled; (2) emergency call handling; (3) speed of answer; (4) equal access to interexchange carriers; and (5) pay-per-call services. On June 4, 2001, Sprint filed a similar request for waiver. Sprint seeks a temporary two year waiver of the same sections identified in Hamilton's waiver request, except for section 64.604(a)(3) which pertains to the types of calls that must be handled. Sprint also seeks waiver of any Commission rules that “may require providers of VRS to ensure that users are able to utilize American Sign Language to communicate with Spanish speaking individuals.”

Hamilton and Sprint's waiver requests will be available for review and copying during regular business hours at the FCC Reference Center, Portals II, 445 12th Street, SW, Room CY-A257, Washington, DC 20554, (202) 418-0270. They may also be viewed at https://haifoss.fcc.gov/cgi-bin/ws.exe/prod/ecfs/comsrch_v2.hts, by typing 98-67 in the proceeding box and 4/06/2001 and 6/04/2001, respectively in the date box. Copies of these documents may also be purchased from the Commission's copy contractor, International Transcription Service, Inc. (ITS), 1231 20th Street, NW., Washington, DC 20036, telephone 202-857-3800, facsimile 202-857-3805, TTY 202-293-8810.

Federal Communications Commission.
Dorothy Attwood,
Chief, Common Carrier Bureau.

[FR Doc. 01-20487 Filed 8-14-01; 8:45 am]

BILLING CODE 6712-01-P